DEPARTMENT OF AGRICULTURE

Forest Service

Virginia Resource Advisory Committee

AGENCY: Forest Service, USDA.

ACTION: Notice of meeting.

SUMMARY: The Virginia Resource Advisory Committee (RAC) will meet in Roanoke, Virginia. The committee is authorized under the Secure Rural Schools and Community Self-Determination Act (the Act) and operates in compliance with the Federal Advisory Committee Act. The purpose of the committee is to improve collaborative relationships and to provide advice and recommendations to the Forest Service concerning projects and funding consistent with Title II of the Act. RAC information, including the meeting agenda and the meeting summary/minutes can be found at the following website: www.fs.fed.us/r8/gwj.

DATES: The meetings will be held on the following dates:

• Friday, March 29, 2019, from 10:00 a.m. to 6:00 p.m., and

• Friday, April 12, 2019, from 10:00 a.m. to 6:00 p.m.

All RAC meetings are subject to cancellation. For updated status of the meetings prior to attendance, please contact the person listed under For Further Information Contact.

ADDRESSES: The meetings will be held at the George Washington and Jefferson National Forests Supervisor's Office, Conference Room, 5162 Valleypointe Parkway, Roanoke, Virginia.

Written comments may be submitted as described under Supplementary Information. All comments, including names and addresses when provided, are placed in the record and are available for public inspection and copying. The public may inspect comments received at the George Washington and Jefferson National Forests Supervisor's Office. Please call ahead to facilitate entry into the building.

FOR FURTHER INFORMATION CONTACT: Rebecca Robbins, RAC Coordinator, by phone at (540) 265-5173 or via email at rebecca.robbins@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of these meetings is to:

1. Prioritize and recommend projects for Title II funds, and

2. Nominate and vote on a Chairperson.

The meetings are open to the public. The agendas will include time for people to make oral statements of three minutes or less. Individuals wishing to make an oral statement should request in writing by March 25, 2019 to be scheduled on the agenda for the March 29, 2019 meeting; and April 3, 2019 to be scheduled on the agenda for the April 12, 2019 meeting. Anyone who would like to bring related matters to the attention of the committee may file written statements with the committee staff before or after the meetings. Written comments and requests for time for oral comments must be sent to Rebecca Robbins, RAC Coordinator, George Washington and Jefferson National Forests Supervisor's Office, 5162 Valleypointe Parkway, Roanoke, Virginia 24019; or by email to rebecca.robbins@usda.gov.

Meeting Accommodations: If you are a person requiring reasonable accommodation, please make requests in advance for sign language interpreting, assistive listening devices or other reasonable accommodation. For access to the facility or proceedings, please contact the person listed in the section titled For Further Information Contact. All reasonable accommodation requests are managed on a case by case basis.

Dated: March 10, 2019.
Christopher B. French,
Acting Deputy Chief, National Forest System.

[FR Doc. 2019-05717 Filed 3-25-19; 8:45 am]

BILLING CODE 3411-15-P